ENVIRONMENTAL PROTECTION AGENCY

[FRL-8279-2]

Notice of Open Meeting of the Environmental Financial Advisory Board (EFAB)

AGENCY: Environmental Protection Agency (EPA).

ACTION: Notice.

SUMMARY: The EPA's EFAB will hold an open meeting of the full board in Atlanta, GA on March 19-20, 2007. EFAB is an EPA advisory committee chartered under the Federal Advisory Committee Act (FACA) to provide advice and recommendations to EPA on creative approaches to funding environmental programs, projects, and activities.

The purpose of this meeting is to hear from informed speakers on environmental finance issues, proposed legislation, Agency priorities, and to discuss progress with work products under EFAB's current Strategic Action Agenda.

Environmental financing topics expected to be discussed include: Financial Assurance Mechanisms, Environmental Management Systems, Smartway Transport Program, and Water Infrastructure Financing.

This meeting is open to the public, however, seating is limited. All members of the public who wish to attend the must register in advance, no later than Friday, March 2, 2007.

DATES: Full Board Meeting is scheduled for March 19, 2007 from 1 p.m.-5 p.m. and March 20, 2007 from 8:30 a.m.-5 p.m.

ADDRESSES: Hilton Atlanta Hotel, 255 Courtland Street, NE., Atlanta, GA 30303.

REGISTRATION AND INFORMATION CONTACT: To register for this meeting or get further information please contact Alecia Crichlow, U.S. EPA, at (202) 564-5188 or crichlow.alecia@epa.gov. For information on access or services for individuals with disabilities, please contact Alecia Crichlow. To request accommodations of a disability, contact Alecia Crichlow, preferably at least 10 days prior to the meeting, to give EPA as much time as possible to process your request.

Dated: February 8, 2007.
Joseph L. Dillon,
Director, Office of Enterprise Technology and Innovation.

[FR Doc. 07-748 Filed 2-20-07; 8:45am]

BILLING CODE 6560-50-M